DEPARTMENT OF EDUCATION

[Docket No.: ED-2023-SCC-0131]

Agency Information Collection Activities; Submission to the Office of Management and Budget for Review and Approval; Comment Request; eZ-Audit: Electronic Submission of 90/10 Revenue Attestations for Proprietary Institutions

AGENCY: Federal Student Aid (FSA), Department of Education (ED).

ACTION: Notice.

SUMMARY: In accordance with the Paperwork Reduction Act (PRA) of 1995, the Department is proposing a new information collection request (ICR).

DATES: Interested persons are invited to submit comments on or before December 7, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: eZ-Audit: Electronic Submission of 90/10 Revenue Attestations for Proprietary Institutions.

OMB Control Number: 1845-NEW.

Type of Review: A new ICR.

Respondents/Affected Public: Private Sector.

Total Estimated Number of Annual Responses: 157,500.

Total Estimated Number of Annual Burden Hours: 2,042.

Abstract: This is a new information collection request for the eZ-Audit—Electronic Submission of 90/10 Revenue Attestation for Proprietary Institutions. The request includes updates to the collection for domestic and foreign proprietary/for-profit schools' 90/10 Revenue Attestation, and updates to the 90/10 Revenue Attestation calculation and reporting requirements per The American Rescue Plan of 2021 (ARP) which amended the Higher Education Act (HEA) of 1965 and the update in regulatory requirements made to 34 CFR 668.28.

Dated: November 1, 2023.
Kun Mullan,
PRA Coordinator, Strategic Collections and Clearance, Governance and Strategy Division, Office of Chief Data Officer, Office of Planning, Evaluation and Policy Development.

[FR Doc. 2023-24533 Filed 11-6-23; 8:45 am]

BILLING CODE 4000-01-P